NUCLEAR REGULATORY COMMISSION

[Docket No. IA-20-008-EA; ASLBP No. 20-968-04-EA-BD01]

In The Matter of Joseph Shea; Establishment of Atomic Safety and Licensing Board

Pursuant to delegation by the Commission, see 37 FR 28,710 (Dec. 29, 1972), and the Commission's regulations, see, e.g., 10 CFR 2.104, 2.105, 2.300, 2.309, 2.313, 2.318, 2.321, notice is hereby given that an Atomic Safety and Licensing Board (Board) is being established to preside over the following proceeding:

Joseph Shea (Enforcement Action)

This Board is being established pursuant to a filing on behalf of Joseph Shea consisting of (1) a hearing request to challenge an enforcement order prohibiting Mr. Shea from involvement in NRC-licensed activities for five years; and (2) a motion to set aside the immediate effectiveness of that order.¹ The challenged order, issued on August 24, 2020 by the NRC Office of Enforcement, was published in the Federal Register on August 28, 2020. See 85 FR 53,423 (Aug. 28, 2020).

¹ See Joseph Shea's Motion to Set Aside the Immediate Effectiveness of an Order Banning Him from Engaging in NRC-Licensed Activities, Answer, and Request for Hearing (Sept. 22, 2020).

The Board is comprised of the following Administrative Judges:

William J. Froehlich, Chairman, Atomic Safety and Licensing Board Panel, U.S. Nuclear Regulatory Commission, Washington, DC 20555-0001

Michael M. Gibson, Atomic Safety and Licensing Board Panel, U.S. Nuclear Regulatory Commission, Washington, DC 20555-0001

Dr. Gary Arnold, Atomic Safety and Licensing Board Panel, U.S. Nuclear Regulatory Commission, Washington, DC 20555-0001

All correspondence, documents, and other materials shall be filed in accordance with the NRC E-Filing rule. See 10 CFR 2.302.

Rockville, Maryland.
Dated: September 24, 2020.
Edward R. Hawkens,
Chief Administrative Judge, Atomic Safety and Licensing Board Panel.

[FR Doc. 2020-21578 Filed 9-29-20; 8:45 am]

BILLING CODE 7590-01-P